DEPARTMENT OF TRANSPORTATION

Federal Aviation Administration

14 CFR Parts 1, 21, 43, and 45

[Docket No. FAA-2006-25877; Amendment Nos. 21-92A and 43-43A]

RIN 2120-AJ44

Production and Airworthiness Approval, Part Marking, and Miscellaneous Amendments; Correction

AGENCY: Federal Aviation Administration (FAA), DOT.

ACTION: Final rule; correction.

SUMMARY: The FAA is making certain corrections to the Certification Procedures and Identification Requirements for Aeronautical Products and Articles final rule published on October 16, 2009 (74 FR 53368). The purpose of that final rule was to update and standardize those requirements for production approval holders (PAHs), revise export airworthiness approval requirements to facilitate global manufacturing, move all part marking requirements from part 21 to part 45, and amend the identification requirements for products and articles. In the amendatory language and the preamble, we inadvertently referred to incorrect paragraphs and text. This document corrects those errors.

DATES: These corrections, including a correction to the effective date of the October 16, 2009, final rule, will become effective on April 14, 2010.

FOR FURTHER INFORMATION CONTACT: Barbara Capron and/or Robert Cook, Production Certification Branch, AIR-220, Federal Aviation Administration, 800 Independence Avenue, SW., Washington, DC 20591; telephone (202) 385-6360 or (202) 385-6358; e-mail: barbara.capron@faa.gov or robert.cook@faa.gov. For legal questions concerning this rule, contact Angela Washington, AGC-210, Office of the Chief Counsel, Federal Aviation Administration, 800 Independence Avenue, SW., Washington, DC 20591; telephone (202) 267-7556; e-mail: angela.washington@faa.gov.

SUPPLEMENTARY INFORMATION:

Background

On October 16, 2009 (74 FR 53368), we published a final rule that standardized, revised, and relocated certification procedures and identification requirements in Title 14, Code of Federal Regulations (14 CFR), parts 1, 21, 43, and 45. The rule was necessary to further promote safety by ensuring that aircraft and products and articles designed specifically for use in aircraft, wherever manufactured, meet appropriate minimum standards for design and construction.

In §§ 21.9(b) and (c) of the final rule, we inadvertently referred to paragraphs (a)(1) through (a)(4), when we should have referred to paragraphs (a)(1) and (a)(2). When we added text to reserved § 21.122, in paragraph (a) we inadvertently stated “An applicant may obtain a production certificate for” when we should have stated “A type certificate holder may utilize”. In § 21.621, we also inadvertently referred to the “Issuance” rather than the “Issue” of letters of TSO design approval: import articles.

In final rule FR Doc. E9-24821 published on October 16, 2009 (74 FR 53368), make the following corrections:

A. Corrections to the Preamble

1. On page 53368, in the first column, revise the Effective Date section to read as follows: “This rule is effective April 16, 2011, except for the amendments to §§ 1.1, 1.2, 21.183, 21.185, 21.195, 21.197, 21.223, 21.225, subparts L and N of part 21, and §§ 45.11 and 45.13, which are effective April 14, 2010.”

2. On page 53375, in the first column, in the first paragraph of section 6, Location of or Change to Manufacturing Facilities, remove the words “or physical changes” from the first sentence, and remove the word “only” from the last sentence.

3. On page 53379, in the second column, in the first paragraph of section 13, Persons Authorized to Perform Maintenance, Preventive Maintenance, Rebuilding, and Alterations, remove the word “only” from the last sentence.

4. On page 53379, in the third column, in the second paragraph of section 14, Statement of Conformity, remove the word “special” and add in its place the word “standard” in the last sentence.

5. On page 53380, in the first column, revise the first paragraph of section C, Compliance Dates, to read: “The effective and compliance date for part 1; part 21, subparts H, I, L, and N; and part 45, subpart B, §§ 45.11 and 45.13 is 180 days after publication in the Federal Register. The rule changes in these subparts are either cost relieving or have no economic impact on industry. The changes do not affect, and are not affected by, other changes to the rule. Therefore, the compliance date is the same as the effective date. All other portions of the final rule either promulgate new requirements or are tied to other requirements that have an extended effective and compliance date. These rule provisions have an effective and compliance date of 18 months after publication in the Federal Register.”

B. Corrections to the Regulatory Text

1. On page 53385, in the third column, in the amendment for § 21.9:

A. In paragraph (b), remove the words “(a)(1) through (a)(4)” and add in their place the words “(a)(1) and (a)(2)”; and

B. In paragraph (c) introductory text, remove the words “(a)(1) through (a)(4)” and add in their place the words “(a)(1) and (a)(2)”.

2. On page 53387, in the second column, in the amendment for § 21.122, amend paragraph (a) by removing the words “An applicant may obtain a production certificate for” and adding in their place the words “A type certificate holder may utilize”.

3. On page 53393, in the third column, in the amendment for § 21.621, revise the section heading to read as follows:

§ 21.621 Issue of letters of TSO design approval: Import articles.

* * * * *

Issued in Washington, DC, on February 24, 2010.
Pamela Hamilton-Powell,
Director, Office of Rulemaking.

[FR Doc. 2010-4161 Filed 2-26-10; 8:45 am]

BILLING CODE 4910-13-P